FEDERAL COMMUNICATIONS COMMISSION

[DA 10-520]

Notice of Debarment; Schools and Libraries Universal Service Support Mechanism

AGENCY: Federal Communications Commission.

ACTION: Notice.

SUMMARY: The Federal Communications Commission (“Commission”) debars Mr. LaDuron from the schools and libraries universal service support mechanism for a period of three years.

DATES: Debarment commences on the date Mr. Leonard Douglas LaDuron receives the debarment letter or April 20, 2010, whichever date come first, for a period of three years.

FOR FURTHER INFORMATION CONTACT: Rebekah Bina, Federal Communications Commission, Enforcement Bureau, Investigations and Hearings Division, Room 4-C330, 445 12th Street, SW., Washington, DC 20554. Rebekah Bina may be contacted by phone at (202) 418-7931 or e-mail at Rebekah.Bina@fcc.gov. If Ms. Bina is unavailable, you may contact Ms. Michele Levy Berlove, Assistant Chief, Investigations and Hearings Division, by telephone at (202) 418-1477 and by e-mail at Michele.Berlove@fcc.gov.

SUPPLEMENTARY INFORMATION: The Commission debarred Mr. LaDuron from the schools and libraries universal service support mechanism for a period of three years pursuant to 47 CFR 521 and 47 CFR 0.111(a)(14). Attached is the debarment letter, DA 10-520, which was mailed to Mr. LaDuron and released on March 30, 2010. The complete text of the notice of debarment is available for public inspection and copying during regular business hours at the FCC Reference Information Center, Portal II, 445 12th Street, SW., Room CY-A257, Washington, DC 20554, In addition, the complete text is available on the FCC's Web site at http://www.fcc.gov. The text may also be purchased from the Commission's duplicating inspection and copying during regular business hours at the contractor, Best Copy and Printing, Inc., Portal II, 445 12th Street, SW., Room CY-B420, Washington, DC 20554, telephone (202) 488-5300 or (800) 378-3160, facsimile (202) 488-5563, or via e-mail http://www.bcpiweb.com.

Federal Communications Commission.
Hillary S. DeNigro,
Chief, Investigations and Hearings Division, Enforcement Bureau.

The debarment letter follows:

March 30, 2010

DA 10-520

VIA CERTIFIED MAIL RETURN RECEIPT REQUESTED

AND E-MAIL (jmorris@bowse-law.com) AND FACSIMILE (913) 649-9399

Mr. Leonard Douglas LaDuron

c/o Jeffrey D. Morris

Berkowitz Oliver Williams Shaw & Eisenbrandt, LLP

4200 Somerset, Suite #150

Prairie Village, KS 66208-5213

Re: Notice of Debarment

File No. EB-10-IH-0108

Dear Mr. LaDuron:

Pursuant to section 54.8 of the rules of the Federal Communications Commission (“Commission”), by this Notice of Debarment you are debarred from the schools and libraries universal service support mechanism (“E-Rate program”) for a period of three years.¹

¹ 47 CFR § 54.8(g) (2008). See also 47 CFR § 0.111(a)(14).

On January 12, 2010, the Enforcement Bureau (“Bureau”) sent you a Notice of Suspension and Initiation of Debarment Proceedings (“Notice of Suspension”).² That Notice of Suspension was published in the Federal Register on January 22, 2010.³ The Notice of Suspension suspended you from participating in activities associated with or relating to the schools and libraries universal service support mechanism and described the basis for initiation of debarment proceedings against you, the applicable debarment procedures, and the effect of debarment.⁴

² Letter from Hillary S. DeNigro, Chief, Investigations and Hearings Division, Enforcement Bureau, Federal Communications Commission, to Mr. Leonard Douglas LaDuron, Notice of Suspension and Initiation of Debarment Proceedings, 25 FCC Rcd 142 (Inv. & Hearings Div., Enf. Bur. 2010) (Attachment 1) (“Notice of Suspension”).

³ 75 Fed. Reg. 3732 (Jan. 22, 2010).

⁴ See Notice of Suspension, 25 FCC Rcd at 143-45.

Pursuant to the Commission's rules, any opposition to your suspension or its scope or to your proposed debarment or its scope had to be filed with the Commission no later than thirty (30) calendar days from the earlier date of your receipt of the Notice of Suspension or publication of the Notice of Suspension in the Federal Register.⁵ The Commission did not receive any such opposition.

⁵ See 47 CFR § 54.8 (e)(3),(4). That date occurred no later than Feb. 21, 2009. See supra note 3.

As discussed in the Notice of Suspension, you pleaded guilty to and were sentenced to serve fifty-seven months in federal prison, to be followed by thirty-six months of supervised release for federal crimes in connection with your participation in a scheme to defraud the E-Rate program.⁶ You held yourself out as an E-Rate consultant and salesperson and admitted that you and others devised a scheme to defraud school districts and the E-Rate program by steering contracts to various companies that directly benefited you, your conspirators, and your companies.⁷ You were also ordered to pay $238,609 in restitution for your role in the scheme.⁸ Such conduct constitutes the basis for your debarment, and your conviction falls within the categories of causes for debarment under section 54.8(c) of the Commission's rules.⁹ For the foregoing reasons, you are hereby debarred for a period of three years from the debarment date, i.e., the earlier date of your receipt of this Notice of Debarment or its publication date in the Federal Register.¹⁰

⁶ See Notice of Suspension, 25 FCC Rcd at 143. See also United States v. Leonard Douglas LaDuron, Criminal Docket No. 2:08CR20055-001-KHV, Petition to Enter Plea (D. Kan. filed June 29, 2009 and entered June 30, 2009) (“Leonard LaDuron Plea”); United States v. Leonard Douglas LaDuron, Criminal Docket No. 2:08CR20055-001-KHV, Judgment (D. Kan. filed and entered Dec. 23, 2009) (“Leonard LaDuron Judgment”); United States v. Leonard Douglas “Doug” LaDuron, Criminal Docket No. 2:08CR20055-001-KHV, Indictment, 1-10, 11-14 (D. Kan. filed Apr. 24, 2009 and entered Apr. 25, 2009) (Counts 1 and 3) (“LaDuron Indictment”).

⁷ See Notice of Suspension, 25 FCC Rcd at 143.

⁸ See Notice of Suspension, 25 FCC Rcd at 143.

⁹ 47 CFR § 54.8(c). See also § 54.8(a)(4),(b)-(e).

¹⁰ See 47 CFR § 54.8(e)(5),(g). See also Notice of Suspension, 25 FCC Rcd at 145.

Debarment excludes you, for the debarment period, from activities associated with or related to the schools and libraries support mechanism, including the receipt of funds or discounted services through the schools and libraries support mechanism, or consulting with, assisting, or advising applicants or service providers regarding the schools and libraries support mechanism.¹¹

¹¹ See 47 CFR § 54.8(a)(1),(a)(5),(d),(g); Notice of Suspension, 24 FCC Rcd at 9101.

Sincerely,

Hillary S. DeNigro

Chief

Investigations and Hearings

Division Enforcement Bureau

cc: Marietta Parker, United States Attorney's Office, Department of Justice (via e-mail) Kristy Carroll, Esq., Universal Service Administrative Company (via e-mail)

[FR Doc. 2010-9099 Filed 4-19-10; 8:45 am]

BILLING CODE 6712-01-P